DEPARTMENT OF VETERANS AFFAIRS

Voluntary Service National Advisory Committee, Notice of Meeting

The Department of Veterans Affairs gives notice under Public Law 92-463 (Federal Advisory Committee Act) that the annual meeting of the Department of Veterans Affairs Voluntary Service National Advisory Committee (NAC) will be held at the Radisson Hotel City Centre, 31 West Ohio Street, Indianapolis, Indiana, on April 30-May 3, 2003. The meeting sessions are scheduled from 6 p.m. until 8 p.m. on April 30; from 8:30 a.m. until 4:30 p.m. on May 1 and 2; and from 9 a.m. until 4 p.m. on May 3, with a closing program at 6 p.m. that day. The meeting is open to the public.

The committee, comprised of 61 national voluntary organizations advises the Secretary, through the Under Secretary for Health, on the coordination and promotion of volunteer activities within VA health care facilities. The primary purposes of this meeting are: To provide for committee review of volunteer policies and procedures; to accommodate full and open communications between the organizations, representatives and the Voluntary Service Office and field staff; to provide educational opportunities geared towards improving volunteer programs with special emphasis on methods to recruit, retain, motivate and recognize volunteers; and to approve committee recommendations.

The April 30 session will involve opening ceremonies, remarks by several VA and local officials and a keynote address by the VA Deputy Secretary. The May 1 session will feature presentations on the VA Voluntary Service and Veterans Canteen Service and four educational workshops on the Stories of Service with Digital Clubhouse Network, Tampa VAMC Junior Intern Program, Student Volunteers Making A Difference and Recruitment—Back to the Basics and Resolving Conflict. On May 2, the business session will include voting on recommendations, a keynote address from the Acting Under Secretary for Memorial Affairs, several awards recognizing exceptional volunteer service and a continuation of the educational workshops. The James H. Parke Memorial Scholarship Luncheon will be held to honor an outstanding youth volunteer, with Lt. General Carol A. Mutter, U.S. Marine Corps (Retired) serving as keynote speaker. The May 3 session will conclude with remarks from the National Executive Committee Vice Chairman and Chairman of the National Advisory Committee during a Volunteer Recognition Dinner.

No time will be allocated at this meeting for receiving oral presentations from the public. However, interested persons may either attend or file statements with the Committee. Written statements may be filed either before the meeting or within 10 days after the meeting and addressed to: Ms. Laura Balun, Administrative Officer, Voluntary Service Office (10C2), Department of Veterans Affairs, 810 Vermont Avenue, NW., Washington, DC, 20420. Individuals interested in attending are encouraged to contact Ms. Balun at (202) 273-8952.

Dated: March 18, 2003
By Direction of the Secretary.
E. Philip Riggin,
Committee Management Officer.

[FR Doc. 03-7007 Filed 3-24-03; 8:45 am]

BILLING CODE 8320-01-M